DEPARTMENT OF VETERANS AFFAIRS

[OMB Control No. 2900-NEW (VA Forms 10-10131, 10-10132, 10-10133)]

Proposed Information Collection (Patient Aligned Care Team (PACT): Helping Veterans Manage Chronic Pain, Engaging Caregivers Veterans With Dementia, Patient Centered Medical Home Operation Enduring Freedom/Operation Iraqi Freedom (OEF/OIF) Veterans With Post Traumatic Stress Disorder (PTSD): Bridging Primary and Behavioral Health Care (BP-BHC))

Activity: Comment Request.

AGENCY: Veterans Health Administration, Department of Veterans Affairs.

ACTION: Notice.

SUMMARY: The Veterans Health Administration (VHA), Department of Veterans Affairs (VA), is announcing an opportunity for public comment on the proposed collection of certain information by the agency. Under the Paperwork Reduction Act (PRA) of 1995, Federal agencies are required to publish notice in the Federal Register concerning each proposed collection of information, including each new collection, and allow 60 days for public comment in response to the notice. This notice solicits comments on the information collections needed to evaluate the project aims to enhance Patient Aligned Care Team (PACT) implementation by providing education about the needs and experiences of OEF/OIF Veterans that is emotionally resonant and engaging to learners on a visceral level, as well as promoting a greater sense of alignment with VA's mission of providing patient-centered care.

DATES: Written comments and recommendations on the proposed collection of information should be received on or before February 16, 2016.

ADDRESSES: Submit written comments on the collection of information through Federal Docket Management System (FDMS) at www.Regulations.gov; or Brian McCarthy, Office of Regulatory and Administrative Affairs, Veterans Health Administration (10B4), Department of Veterans Affairs, 810 Vermont Avenue NW., Washington, DC 20420 or email: Brian.McCarthy4@va.gov. Please refer to “OMB Control No. 2900-NEW (PACT: Helping Veterans Manage Chronic Pain, Engaging Caregivers Veterans with Dementia, Patient Centered Medical Home OEF/OIF Veterans with PTSD: Bridging Primary and Behavioral Health Care (BP-BHC))” in any correspondence. During the comment period, comments may be viewed online through the FDMS.

FOR FURTHER INFORMATION CONTACT: Brian McCarthy at (202) 461-6345.

SUPPLEMENTARY INFORMATION: Under the PRA of 1995 (Pub. L. 104-13; 44 U.S.C. 3501—3521), Federal agencies must obtain approval from the Office of Management and Budget (OMB) for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Titles: PACT: Helping Veterans Manage Chronic Pain, Engaging Caregivers Veterans with Dementia, Patient Centered Medical Home OEF/OIF Veterans with PTSD: Bridging Primary and Behavioral Health Care (BP-BHC), VA Forms 10-10131, 10-10132, and 10-10133.

OMB Control Number: 2900-NEW.

Type of Review: New data collection.

Abstract: The Office of Patient Care Services, Primary Care Program Office, has undertaken an initiative to implement a patient-centered medical home model at all Veterans Health Administration (VHA) Ambulatory Primary Care sites. In addition to the VHA's Universal Health Care Services implementation of the PACT, Patient Care Services has funded 5 PACT Demonstration Laboratories across the country.

Affected Public: Individuals or households.

Estimated Annual Burden: 2,195 burden hours.

Estimated Average Burden Per Respondent: 272 minutes.

Frequency of Response: 127 responses annually.

Estimated Number of Respondents: 20,110.

By direction of the Secretary.
Kathleen M. Manwell,
Program Analyst, VA Privacy Service, Office of Privacy and Records Management, Department of Veterans Affairs.

[FR Doc. 2015-31512 Filed 12-15-15; 8:45 am]

BILLING CODE 8320-01-P